INTERNATIONAL TRADE COMMISSION

[Investigation No. 731-TA-749 (Third Review)]

Persulfates From China; Determination

On the basis of the record ¹ developed in the subject five-year review, the United States International Trade Commission (Commission) determines, pursuant to section 751(c) of the Tariff Act of 1930 (19 U.S.C. 1675(c)), that revocation of the antidumping duty order on persulfates from China would be likely to lead to continuation or recurrence of material injury to an industry in the United States within a reasonably foreseeable time.

¹ The record is defined in sec. 207.2(f) of the Commission's Rules of Practice and Procedure (19 CFR 207.2(f)).

Background

The Commission instituted this review on March 1, 2013 (78 FR 13891, corrected 78 FR 14591, March 6, 2013) and determined on June 4, 2013, that it would conduct a full review (78 FR 35314, June 12, 2013). Notice of the scheduling of the Commission's review and of a public hearing to be held in connection therewith was given by posting copies of the notice in the Office of the Secretary, U.S. International Trade Commission, Washington, DC, and by publishing the notice in the Federal Register on August 27, 2013 (78 FR 52969), revised on October 28, 2013 (78 FR 64244). The hearing was held in Washington, DC, on January 16, 2014, and all persons who requested the opportunity were permitted to appear in person or by counsel.

The Commission completed and filed its determination in this review on March 10, 2014. The views of the Commission are contained in USITC Publication 4456 (March 2014), entitled Persulfates From China: Investigation No. 731-TA-749 (Third Review).

By order of the Commission.
Issued: March 10, 2014.
Lisa R. Barton,
Acting Secretary to the Commission.

[FR Doc. 2014-05556 Filed 3-13-14; 8:45 am]

BILLING CODE 7020-02-P